DEPARTMENT OF HOUSING AND URBAN DEVELOPMENT

[Docket No. FR-6164-N-02]

Notice of Regulatory Waiver Requests Granted for the Second Quarter of Calendar Year 2019

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2019 and ending on June 30, 2019.

FOR FURTHER INFORMATION CONTACT: For general information about this notice, contact Aaron Santa Anna, Acting Associate General Counsel for Legislation and Regulations, Department of Housing and Urban Development, 451 7th Street SW, Room 10282, Washington, DC 20410-0500, telephone 202-708-5300 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the second quarter of calendar year 2019.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2019 through June 30, 2019. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2019) before the next report is published (the third quarter of calendar year 2019), HUD will include any additional waivers granted for the second quarter in the next report.

Accordingly, information about approved waiver requests pertaining to HUD regulations is provided in the Appendix that follows this notice.

Dated: September 12, 2019.
J. Paul Compton Jr.,
General Counsel.

APPENDIX

Listing of Waivers of Regulatory Requirements Granted by Offices of the Department of Housing and Urban Development April 1, 2019 through June 30, 2019

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Fair Housing and Equal Opportunity.

III. Regulatory waivers granted by the Government National Mortgage Association

IV. Regulatory waivers granted by the Office of Housing.

V. Regulatory waivers granted by the Office of Public and Indian Housing.

I. Regulatory Waivers Granted by the Office of Community Planning and Development

For further information about the following regulatory waivers, please see the name of the contact person that immediately follows the description of the waiver granted.

• Regulation: Section II.B.3.a of the NSP Unified Notice.

Project/Activity: State of West Virginia's Request to Amend Affordability Period for eight Units.

Nature of Requirement: Consistent with the Housing and Economic Recovery Act of 2008 (HERA), which authorized NSP, the Notice of Formula Allocations and Program Requirements for Neighborhood Stabilization Program Formula Grants, at 75 FR 64322, requires NSP grantees to ensure, to the maximum extent practicable and for the longest feasible term, that the sale, rental or redevelopment of abandoned and foreclosed NSP-assisted homes and residential properties remain affordable to individuals or families whose incomes do not exceed 120% of area median income. Further, the Notice, at section II.B.3.a, states grants must adopt, at a minimum, the HOME program standards in 24 CFR part 92 to comply with the continued affordability requirement.

Granted By: David C. Woll, Jr., Acting Assistant Secretary for Community Planning and Development.

Date Granted: April 2, 2019.

Reason Waived: This waiver will allow the state of West Virginia, using CDBG-DR funds, to redevelop the ground floor of a flooded NSP building for commercial or other non-residential uses. This will enable the state to lift the requirement that the first floor units remain residential, which could put them at risk for another flood. The state will also repair the utilities so that the third floor can once again serve as affordable housing, and will develop eight new affordable housing units at a different site.

Contact: John Laswick, Deputy Director, Entitlement Communities Division, Office of Block Grant Assistance, Office of Community Planning and Development, Department of Housing and Urban Development, 451 Seventh Street SW, Room 7282, Washington, DC 20410, telephone (202) 402-4521.

• Regulation: 24 CFR 51.104(b)(2).

Project/Activity: Delamarre Apartments—Celebration, Florida. The construction of a mixed-use project to create 379 housing units of market-rate housing and a clubhouse under HUD's Section 221(d)(4) mortgage insurance program.

Nature of Requirement: The regulation at 24 CFR 51.104(b)(2) requires an environmental impact statement for projects in unacceptable noise zones. The Assistant Secretary may waive the EIS requirement in cases where noise is the only environmental issue and no outdoor noise sensitive activity will take place on the site. In such cases, an environmental review shall be made pursuant to the requirements of 24 CFR parts 50.

Granted By: David C. Woll, Jr. Principal Deputy Assistant Secretary for Community Planning and Development.

Date Granted: June 12, 2019.

Reason Waived: The project will further the HUD mission and will advance HUD program goals to develop viable, sustainable communities and affordable housing. The construction of the units will adequately protect the interiors, and outdoor, noise-sensitive uses will be protected by noise barriers to ensure HUD's exterior noise goal. Based on the environmental assessments, no adverse environmental impact will result from this development in an unacceptable noise zone.

Contact: Marcel Tchaou, Office of Environment and Energy, Office of Community Planning and Development, Department of Housing and Urban Development 451 Seventh Street SW, Room 7212, Washington, DC 20410, telephone (202) 402-7077.

• Regulation: 24 CFR 91.105(c)(2); 24 CFR 91.105(k) and 24 CFR 91.115(c)(2) and 24 CFR 91.115(i)—30-day Public Comment Period for Consolidated Plan Amendment.

Project/Activity: Hurricane Michael and subsequent flooding caused substantial damage to neighborhoods throughout Florida's Bay, Calhoun, Franklin, Gadsden, Gulf, Holmes, Jackson, Leon, Liberty, Taylor, Wakulla, and Washington counties. Consequently, many individuals and families residing in the declared-disaster area were affected, including the current beneficiaries of the Emergency Solutions Grants (ESG) Program and families eligible to receive ESG assistance. The state has inquired about the availability of certain regulatory waivers of ESG Program requirements to facilitate recovery and assist individuals and families affected by the disaster.

On October 19, 2018, the aforementioned Florida counties were included in a major disaster declaration (FEMA-DR-4399) under Title IV of the Stafford Act.

Nature of Requirement: An ESG Program recipient may amend an approved consolidated plan in accordance with 24 CFR 91.505. Substantial amendments to the consolidated plan, such as the addition of new activities or a change in the use of ESG Program funds from one eligible activity to another, are subject to the citizen participation process in the recipient's citizen participation plan. The citizen participation plan must provide citizens with 30 days to comment on substantial amendments.

Regulations at 24 CFR 91.105(c)(2) and (k) and 24 CFR 91.115 (c)(2) and (i) set forth the citizen participation plan requirements for local governments and states, respectively. For substantial amendments to the consolidated plan, the regulations require the recipient to follow its citizen participation plan to provide citizens, for both local government and state plans, and units of general local government, for state plans, with reasonable notice and opportunity to comment. The citizen participation plan must state how reasonable notice and opportunity to comment will be given.

Granted By: David C. Woll, Jr., Acting Assistant Secretary for Community Planning and Development.

Date Granted: April 2, 2019.

Reason Waived: Given the need to expedite actions to respond to the disaster, HUD waives the 30-day public comment requirement of 24 CFR 91.105(c)(2) and (k) and 91.115(c)(2) and (i) and reduces the public comment period to seven days. In reducing the comment period to seven days, HUD is balancing the need to quickly assist families dealing with the aftereffects of the hurricane while continuing to provide reasonable notice and opportunity for citizens to comment on the proposed uses of ESG Program funds.

In addition, HUD recognizes that the destruction wrought by Hurricane Michael makes it difficult for the recipient to provide notice to citizens in accordance with its citizen participation plan. Therefore, HUD waives 24 CFR 91.105(c)(2) and (k) and 91.115(c)(2) and (i) to allow the recipient to determine what constitutes reasonable notice and opportunity to comment.

Contact: Norm Suchar, Director, Office of Special Needs Assistance Programs, Office of Community Planning and Development, Department of Housing and Urban Development, 451 Seventh Street SW, Room 7262, Washington, DC 20410, telephone (202) 708-4300.

• Regulation: 24 CFR 91.105(c)(2); 24 CFR 91.105(k) and 24 CFR 91.115(c)(2) and 24 CFR 91.115(i)—30-day Public Comment Period for Consolidated Plan Amendment.

Project/Activity: The California wildfires caused substantial damage to neighborhoods throughout Butte, Los Angeles, and Ventura counties. Consequently, many individuals and families residing in the declared-disaster area were affected, including the current beneficiaries of the ESG Program and families eligible to receive ESG assistance. The state inquired about the availability of certain regulatory waivers of ESG Program requirements to facilitate recovery and assist individuals and families affected by the disaster.

Nature of Requirement: An ESG Program recipient may amend an approved consolidated plan in accordance with 24 CFR 91.505. Substantial amendments to the consolidated plan, such as the addition of new activities or a change in the use of ESG Program funds from one eligible activity to another, are subject to the citizen participation process in the recipient's citizen participation plan. The citizen participation plan must provide citizens with 30 days to comment on substantial amendments.

Regulations at 24 CFR 91.105(c)(2) and (k) and 24 CFR 91.115 (c)(2) and (i) set forth the citizen participation plan requirements for local governments and states, respectively. For substantial amendments to the consolidated plan, the regulations require the recipient to follow its citizen participation plan to provide citizens, for both local government and state plans, and units of general local government, for state plans, with reasonable notice and opportunity to comment. The citizen participation plan must state how reasonable notice and opportunity to comment will be given.

Granted By: David C. Woll, Jr., Acting Assistant Secretary for Community Planning and Development.

Date Granted: April 2, 2019.

Reason Waived: Given the need to expedite actions to respond to the disaster, HUD waives the 30-day public comment requirement of 24 CFR 91.105(c)(2) and (k) and 91.115(c)(2) and (i) and reduces the public comment period to seven days. In reducing the comment period to seven days, HUD is balancing the need to quickly assist families dealing with the aftereffects of the wildfires while continuing to provide reasonable notice and opportunity for citizens to comment on the proposed uses of ESG Program funds.

In addition, HUD recognizes that the destruction wrought by the California wildfires makes it difficult for the recipient to provide notice to citizens in accordance with its citizen participation plan. Therefore, HUD waives 24 CFR 91.105(c)(2) and (k) and 91.115(c)(2) and (i) to allow the recipient to determine what constitutes reasonable notice and opportunity to comment.

Contact: Norm Suchar, Director, Office of Special Needs Assistance Programs, Office of Community Planning and Development, Department of Housing and Urban Development, 451 Seventh Street SW, Room 7262, Washington, DC 20410, telephone (202) 708-4300.

• Regulation: 24 CFR 91.105(c)(2) and 24 CFR 91.115(i).

Project/Activity: Northern Mariana Islands' Plan Amendments for use of CDBG funding.

Nature of Requirement: The citizen participation plan (part of the Consolidated Plan) must provide residents and units of general local government with reasonable notice and an opportunity to comment on consolidated plan substantial amendments. The citizen participation plan must provide a period, of not less than 30 calendar days, to receive comments on the consolidated plan substantial amendment before the consolidated plan substantial amendment is implemented. The waiver reduced this period to not less than seven days.

Granted By: David C. Woll, Jr., Principal Deputy Assistant Secretary, Office of Community Planning and Development.

Date Granted: January 29, 2019.

Reason Waived: In reducing the comment period to seven, HUD is balancing the need to quickly assist families dealing with the after-effects of the tropical storm [FEMA-4404-DR] while continuing to provide reasonable notice and opportunity for citizens to comment on the proposed uses of the Northern Mariana Islands' CDBG funds.

Contact: James Höemann, Deputy Director, State and Small Cities Division, Office of Block Grant Assistance, Office of Community Planning and Development, Department of Housing and Urban Development, 451 Seventh Street SW, Room 7282, Washington, DC 20410, telephone (202) 402-5716.

• Regulation: 24 CFR 91.115(c)(2) and 24 CFR 91.115(i).

Project/Activity: State of Nebraska's Plan Amendments for use of CDBG funding.

Nature of Requirement: The citizen participation plan (part of the Consolidated Plan) must provide residents and units of general local government with reasonable notice and an opportunity to comment on consolidated plan substantial amendments. The citizen participation plan must provide a period, of not less than 30 calendar days, to receive comments on the consolidated plan substantial amendment before the consolidated plan substantial amendment is implemented. The waiver reduced this period to not less than seven days.

Granted By: David C. Woll, Jr., Acting Assistant Secretary for Community Planning and Development.

Date Granted: April 2, 2019.

Reason Waived: In reducing the comment period to seven, HUD is balancing the need to quickly assist families dealing with the after-effects of the flood [DR-4420] while continuing to provide reasonable notice and opportunity for citizens to comment on the proposed uses of the State of Nebraska's CDBG funds.

Contact: James Höemann, Deputy Director, State and Small Cities Division, Office of Block Grant Assistance, Office of Community Planning and Development, Department of Housing and Urban Development, 451 Seventh Street SW, Room 7282, Washington, DC 20410, telephone (202) 402-5716.

• Regulation: 24 CFR 92.252(d)(1) Utility Allowance Requirements.

Project/Activity: Contra Costa County, California, requested a waiver of 24 CFR 92.252(d)(1) to allow use of the utility allowance established by its local public housing agency (PHA) for a HOME-assisted project—St. Paul's Commons.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: David C. Woll Jr., Acting Assistant Secretary for Community Planning and Development.

Date Granted: June 18, 2019.

Reason Waived: The HOME requirements for establishing a utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Department of Housing and Urban Development, 451 Seventh Street SW, Room 7160, Washington, DC 20410, telephone (202) 708-2684.

• Regulation: 24 CFR 576.106(a); 24 CFR 576.105(a)(5); and 24 CFR 576.105(b)(2)—Term limits on Rental Assistance and Housing Relocation and Stabilization Services.

Project/Activity: Hurricane Michael and subsequent flooding caused substantial damage to neighborhoods throughout Florida's Bay, Calhoun, Franklin, Gadsden, Gulf, Holmes, Jackson, Leon, Liberty, Taylor, Wakulla, and Washington counties. Consequently, many individuals and families residing in the declared-disaster area were affected, including the current beneficiaries of the ESG Program and families eligible to receive ESG assistance. The state has inquired about the availability of certain regulatory waivers of ESG Program requirements to facilitate recovery and assist individuals and families affected by the disaster.

On October 19, 2018, the aforementioned Florida counties were included in a major disaster declaration (FEMA-DR-4399) under Title IV of the Stafford Act.

Nature of Requirement: The ESG regulation at 24 CFR 576.106(a) prohibits a program participant from receiving more than 24 months of ESG rental assistance during any three-year period. Section 576.105(a)(5) prohibits a program participant from receiving more than 24 months of utility payments under ESG during any three-year period. Section 576.105(b)(2) limits the provision of housing stability case management to 30 days while the program participant is seeking permanent housing and 24 months while the program participant is living in permanent housing.

Granted By: David C. Woll, Jr., Acting Assistant Secretary for Community Planning and Development.

Date Granted: April 2, 2019.

Reason Waived: Waiving the 24 month caps on rental assistance, utility payments, and housing stability case management assistance will assist individuals and families, both those already receiving assistance and those who will receive assistance subsequent to the date of this memorandum to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone (202) 708-4300.

• Regulation: 24 CFR 576.106(a); 24 CFR 576.105(a)(5); and 24 CFR 576.105(b)(2)—Term limits on Rental Assistance and Housing Relocation and Stabilization Services.

Project/Activity: The California wildfires caused substantial damage to neighborhoods throughout Butte, Los Angeles, and Ventura counties. Consequently, many individuals and families residing in the declared-disaster area were affected, including the current beneficiaries of the ESG Program and families eligible to receive ESG assistance. The state inquired about the availability of certain regulatory waivers of ESG Program requirements to facilitate recovery and assist individuals and families affected by the disaster.

Nature of Requirement: The ESG regulation at 24 CFR 576.106(a) prohibits a program participant from receiving more than 24 months of ESG rental assistance during any three-year period. Section 576.105(a)(5) prohibits a program participant from receiving more than 24 months of utility payments under ESG during any three-year period. Section 576.105(b)(2) limits the provision of housing stability case management to 30 days while the program participant is seeking permanent housing and 24 months while the program participant is living in permanent housing.

Granted By: David C. Woll, Jr., Acting Assistant Secretary for Community Planning and Development.

Date Granted: April 2, 2019.

Reason Waived: Waiving the 24 month caps on rental assistance, utility payments, and housing stability case management assistance will assist individuals and families, both those already receiving assistance and those who will receive assistance subsequent to the date of this memorandum to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone (202) 708-4300.

• Regulation: 24 CFR 576.106(d)(1).

Project/Activity: Hurricane Michael and subsequent flooding caused substantial damage to neighborhoods throughout Florida's Bay, Calhoun, Franklin, Gadsden, Gulf, Holmes, Jackson, Leon, Liberty, Taylor, Wakulla, and Washington counties. Consequently, many individuals and families residing in the declared-disaster area were affected, including the current beneficiaries of the ESG Program and families eligible to receive ESG assistance. The state has inquired about the availability of certain regulatory waivers of ESG Program requirements to facilitate recovery and assist individuals and families affected by the disaster.

On October 19, 2018, the aforementioned Florida counties were included in a major disaster declaration (FEMA-DR-4399) under Title IV of the Stafford Act.

Nature of Requirement: Under 24 CFR 576.106(d)(1), rental assistance cannot be provided unless the total rent is equal to or less than the FMR established by HUD, as provided under 24 CFR part 888, and complies with HUD's standard of rent reasonableness, as established under 24 CFR 982.507.

Granted By: David C. Woll, Jr., Acting Assistant Secretary for Community Planning and Development.

Date Granted: April 2, 2019.

Reason Waived: HUD has determined that the rental vacancy rate in affected areas after hurricanes is extraordinarily low. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone (202) 708-4300.

• Regulation: 24 CFR 576.106(d)(1).

Project/Activity: The California wildfires caused substantial damage to neighborhoods throughout Butte, Los Angeles, and Ventura counties. Consequently, many individuals and families residing in the declared-disaster area were affected, including the current beneficiaries of the ESG Program and families eligible to receive ESG assistance. The state inquired about the availability of certain regulatory waivers of ESG Program requirements to facilitate recovery and assist individuals and families affected by the disaster.

Nature of Requirement: Under 24 CFR 576.106(d)(1), rental assistance cannot be provided unless the total rent is equal to or less than the FMR established by HUD, as provided under 24 CFR part 888, and complies with HUD's standard of rent reasonableness, as established under 24 CFR 982.507.

Granted By: David C. Woll, Jr., Acting Assistant Secretary for Community Planning and Development.

Date Granted: April 2, 2019.

Reason Waived: HUD has determined that the rental vacancy rate in affected areas after the wildfires is extraordinarily low. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone number (202) 708-4300.

• Regulation: 24 CFR 578.23(c)(9) and 24 CFR 578.23(c)(10);

Project/Activity: NY-603—Long Island Continuum of Care (CoC) Program reallocated 11 Permanent Supportive Housing (PSH) projects in the FY 2018 CoC Program Competition, which affects almost 300 program participants—many with disabilities, who face returning to homelessness. The interim rule requires certain documentation requirements and imposes eligibility requirements which severely limits potential available housing options for program participants to transfer into other CoC Program-funded projects.

Nature of Requirement: 24 CFR 578.23(c)(9) and 24 CFR 578.23(c)(10) requires the recipient to sign a grant agreement under which they agree to use the centralized or coordinated assessment system established by the Continuum of Care as set forth in § 578.7(a)(8) and follow the written standards for providing Continuum of Care assistance developed by the Continuum of Care, including the minimum requirements set forth in § 578.7(a)(9). Section 578.7(a)(9)(v) requires these written standards to include policies and procedures for determining and prioritizing which eligible individuals and families will receive permanent supportive housing assistance.

Granted By: David C. Woll, Jr., Acting Assistant Secretary for Community Planning and Development.

Date Granted: May 31, 2019.

Reason Waived: The waiver will permit program participants residing in PSH projects defunded in the FY 2018 CoC Program Competition permanent housing to be served by other CoC Program-funded projects by waiving prioritization requirements and allowing program participants to self-certify their homeless status at the time they entered the defunded PSH project.

Contact: Norm Suchar, Director, Office of Special Needs Assistance Programs, Office of Community Planning and Development, Department of Housing and Urban Development, 451 Seventh Street SW, Room 7262, Washington, DC 20410, telephone (202) 708-4300.

• Regulation: 24 CFR 578.3 and 24 CFR 578.51(l)(1).

Project/Activity: Family Support Center of South Sound (FSCSS) provides program participants with Rapid Re-Housing (RRH) assistance that includes short- and medium-term rental assistance, ranging from three months to nine months, while also providing supportive services to help increase participant income through employment and the acquisition of mainstream benefits.

Nature of Requirement: The “permanent housing” definition at 24 CFR 578.3 and the lease requirement for permanent housing rental assistance at 24 CFR 578.51(l)(1) require program participants to have a lease with an initial term of at least one year, which is renewable for terms that are a minimum of one month long and is terminable only for cause.

Granted By: David C. Woll, Jr., Acting Assistant Secretary for Community Planning and Development.

Date Granted: May 17, 2019.

Reason Waived: FCSS states that the HUD rule requiring a lease term of at least one year creates an unintentional barrier for participant access to available housing units. Between July and December of 2018, FCSS documented a minimum of five households who identified a housing option but were denied by the landlord because of this requirement. Each of these participants had to restart their housing search and their episode of homelessness was extended because shorter lease term options were not allowable.

Waiving these provisions will allow the recipient expedite voucher utilization and better coordinate with landlords in an area with low vacancy rates and housing providers that aren't willing to enter into one-year lease agreements. Program participants residing in rapid re-housing units may enter into leases that have an initial term of less than one year, so long as the leases have an initial term of more than one month, are renewable for terms that are a minimum of one month long and are only terminable for cause.

Contact: Norm Suchar, Director, Office of Special Needs Assistance Programs, Office of Community Planning and Development, Department of Housing and Urban Development, 451 Seventh Street SW, Room 7262, Washington, DC 20410, telephone (202) 708-4300.

• Regulation: 24 CFR 578.3 and 24 CFR 578.51(l)(1).

Project/Activity: Home Forward administers six projects that provides permanent supportive housing projects that provide rental assistance on behalf of program participants with disabilities and experiencing chronic homelessness in the Multnomah County, OR region.

Nature of Requirement: The “permanent housing” definition at 24 CFR 578.3 and the lease requirement for permanent housing rental assistance at 24 CFR 578.51(l)(1) require program participants to have a lease with an initial term of at least one year, which is renewable for terms that are a minimum of one month long and is terminable only for cause.

Granted By: David C. Woll, Jr., Acting Assistant Secretary for Community Planning and Development.

Date Granted: April 18, 2019.

Reason Waived: This jurisdiction has incredibly low vacancy rates ranging from 2.87 to 4.37 percent over the past couple years. In addition, rents in this area have increased at a rate of 6.37 to 10.5 percent in comparison to a national average of 1.4 to 3.5 percent annually. Finding affordable housing units in a market where many landlords have expressed a preference for entering into lease agreements with terms of less than one year is a challenge. Waiving these provisions will allow the recipient to better coordinate with landlords in an area with low vacancy rates and housing providers that aren't willing to enter into one-year lease agreements. Program participants residing in permanent supportive housing units may enter into leases that have an initial term of less than one year, so long as the leases have an initial term of more than one month, are renewable for terms that are a minimum of one month long and are only terminable for cause.

Contact: Norm Suchar, Director, Office of Special Needs Assistance Programs, Office of Community Planning and Development, Department of Housing and Urban Development, 451 Seventh Street SW, Room 7262, Washington, DC 20410, telephone (202) 708-4300.

• Regulation: 24 CFR 578.3 and 24 CFR 578.51(l)(1).

Project/Activity: Los Angeles Homeless Services Authority administers four projects that provides program participants with RRH assistance and supportive services to help increase participant income through employment and the acquisition of mainstream benefits.

Nature of Requirement: The “permanent housing” definition at 24 CFR 578.3 and the lease requirement for permanent housing rental assistance at 24 CFR 578.51(l)(1) require program participants to have a lease with an initial term of at least one year, which is renewable for terms that are a minimum of one month long and is terminable only for cause.

Granted By: David C. Woll, Jr., Acting Assistant Secretary for Community Planning and Development.

Date Granted: April 11, 2019.

Reason Waived: The Los Angeles Metro area is the most cost-burdened in the United States. According to the Joint Center for Housing Studies, 48 percent of all residents in Los Angeles County pay more than 30 percent of their income on rent and 82 percent of the lowest income residents pay more than 50 percent of their income on rent. Additionally, according to the U.S. Census Bureau 2016 American Community Survey, the rental vacancy rate for Los Angeles was 2.0 percent. Landlords are also refusing to accept households experiencing homelessness served by these agencies because of the 12-month lease requirement while they are accepting other households with similar characteristics and backgrounds that are not enrolled in their projects. Waiving these provisions will allow the recipient expedite voucher utilization and better coordinate with landlords in an area with low vacancy rates and housing providers that aren't willing to enter into one-year lease agreements. Program participants residing in rapid re-housing units may enter into leases that have an initial term of less than one year, so long as the leases have an initial term of more than one month, are renewable for terms that are a minimum of one month long and are only terminable for cause.

Contact: Norm Suchar, Director, Office of Special Needs Assistance Programs, Office of Community Planning and Development, Department of Housing and Urban Development, 451 Seventh Street SW, Room 7262, Washington, DC 20410, telephone (202) 708-4300.

• Regulation: 24 CFR 578.103(a)(4).

Project/Activity: NY-603-Long Island CoC reallocated 11 Permanent Supportive Housing (PSH) projects in the FY 2018 CoC Program Competition, which affects almost 300 program participants—many with disabilities, who face returning to homelessness. The interim rule requires certain documentation requirements and imposes eligibility requirements which severely limits potential available housing options for program participants to transfer into other CoC Program-funded projects.

Nature of Requirement: This requirement establishes a prescriptive process for verifying and documenting a person's “chronically homeless” status and only allows for self-certification if the preferred evidence has proved unobtainable, and the intake worker's due diligence to obtain the preferred evidence has been documented

Granted By: David C. Woll, Jr., Acting Assistant Secretary for Community Planning and Development.

Date Granted: May 31, 2019.

Reason Waived: The prescriptive requirements for verifying and documenting “chronically homeless” status were written for persons presenting as chronic homeless at time of initial intake, when the preferred evidence under the rule would most likely be available and obtainable. The requirements were not meant to be applied to years-long residents of permanent supportive housing who only now are being asked for evidence they were chronically homeless when they entered their permanent supportive housing. It seems overly burdensome to require these persons or their intake workers to dig around for the preferred evidence now—as many as ten years after the person was homeless. In this case, the time and costs required to dig up the preferred evidence at this point outweighs the extra assurance any evidence obtainable at this point would provide over a self-certification.

Contact: Norm Suchar, Director, Office of Special Needs Assistance Programs, Office of Community Planning and Development, Department of Housing and Urban Development, 451 Seventh Street SW, Room 7262, Washington, DC 20410, telephone (202) 708-4300.

II. Regulatory Waivers Granted by the Office of Fair Housing and Equal Opportunity

For further information about the following regulatory waivers, please see the name of the contact person that immediately follows the description of the waiver granted.

• Regulation: 24 CFR Sec 115.305.

Project/Activity: Fair Housing Assistance Program, Washington, DC.

Nature of Requirement: FHEO is providing an Enforcement Fund under existing SEE fund authority set forth at 24 CFR Sec 115.305 for the purpose of providing financial assistance to FHAP agencies struggling with litigation costs. SEE funds are funds that HUD may provide to a FHAP agency to support enforcement activities of the FHAP agency's fair housing law. SEE funds are limited by regulation to 20 percent of an agency's total FHAP cooperative agreement for the previous contract year.

Granted By: Anne Maria Farías, Assistant Secretary for Fair Housing and Equal Opportunity.

Date Granted: March 25, 2019.

Reason Waived: Waiver of the 20 percent limitation on SEE funds for eligible FHAP agencies whose total cooperative agreement for fiscal year 2018 was less than $300,000. This allows more meaningful support for small and medium-sized agencies.

Contact: Joseph A. Pelletier, Director, Fair Housing Assistance Division, Office of Fair Housing and Equal Opportunity, Department of Housing and Urban Development, 451 Seventh Street SW, Room 5206, Washington, DC 20410, telephone (202) 402-2126.

III. Regulatory Waivers Granted by the Office of Government National Mortgage Association

For further information about the following regulatory waivers, please see the name of the contact person that immediately follows the description of the waiver granted.

• Regulation: 24 CFR 330.20(a)(2)(i)(D).

Project/Activity: BofA Securities, Inc. (BofAS) eligibility for approval as a sponsor of Ginnie Mae guaranteed structured securities.

Nature of the Requirement: The regulation at 24 CFR 330.20(a)(2)(i)(D) establishes certain eligibility requirements for an entity applying for approval as a Ginnie Mae Sponsor. An applicant must have at least $250 million in shareholders' equity or partners' capital evidenced by the sponsor's audited financial statements, which must have been issued within the preceding 12-month period.

Granted By: Maren M. Kasper, Acting President, Ginnie Mae.

Date Granted: April 24, 2019.

Reason Waived: The new broker-dealer entity BofA Securities is a wholly-owned, indirect subsidiary of Bank of America Corporation and an affiliate of Merrill, Lynch, Pierce, Fenner & Smith Inc. (MLPF&S), an active sponsor in Ginnie Mae's Multiclass Securities Program. Due to a reorganization, MLPF&S will stop sponsoring Ginnie Mae deals and its team leading Ginnie Mae's Multiclass deals will be transferred to BofAS. This new entity meets the minimum required amount of $250 million in shareholders' equity or partners' capital but cannot provide an audited financial statement reflecting this amount issued in the preceding 12 months due to it being a new operating entity. BofAS has agreed to assume responsibility for the legacy Ginnie Mae assets currently under MLPF&S and Bank of America has provided assurances for liability. This is a special situation where Ginnie Mae has found good cause to issue a one-time waiver of the requirement for an applicant for approval as a sponsor to submit an audited financial statement issued within the preceding 12-month period that evidences the minimum required amount in shareholders' equity or partners' capital.

Contact: Richard Perrelli, Product Manager Multiclass Securities, Office of Capital Markets, Government National Mortgage Association, Department of Housing and Urban Development, 425 Third St. SW, 4th FL, Washington, DC 20024, telephone (202) 475-7992.

IV. Regulatory Waivers Granted by the Office of Housing—Federal Housing Administration (FHA)

For further information about the following regulatory waivers, please see the name of the contact person that immediately follows the description of the waiver granted.

• Regulation: 24 CFR 200.73(c).

Project/Activity: Kenmore Commons, FHA Project Number 042-35722, Cleveland, Ohio. The subject project has two phases consisting of 17 scattered sites with 25 buildings containing a combined 102 units; however, 12 of the 25 buildings have less than 5 units. All 102 units are covered by Section 8 HAP Contracts and will continue the affordability restriction via a 30-year affordable use Regulatory Agreement with the Ohio Housing Finance Agency. The lender, Bellwether Enterprise Real Estate Capital, LLC is seeking FHA financing to substantially renovate 102 affordable units.

Nature of Requirement: The 24 CFR part 200.73(c) which, states that a site must contain no less than 5 rental dwelling units. Section 3.1.O.l.CC of the MAP Guide permits a project with two or more noncontiguous parcels of land when the parcels comprise one marketable, manageable real estate entity and each parcel (or combination of contiguous parcels) has at least 5 units.

Granted By: Brian D. Montgomery, Assistant Secretary for Housing—Federal Housing Commissioner.

Date Granted: June 17, 2019.

Reason Waived: The waiver was granted to allow preservation of 102 units that are 100% affordable, where there is a high demand for affordable housing in the Hough neighborhood near downtown Cleveland, OH. This project constitutes one manageable and marketable property.

Contact: Patricia M. Burke, Acting Director Office of Multifamily Production, Office of Housing, Department of Housing and Urban Development, 451 Seventh Street SW, Washington, DC 20410, telephone (202) 402-5693.

• Regulation: 24 CFR 200.73(c).

Project/Activity: Riverside Park Homes, FHA Project Number 042-11324, Cleveland, Ohio. The subject project consists of 20 buildings containing a combined 90 units; however, 18 of the 20 buildings have less than 5 units. The lender, Orix Real Estate Capital, LLC is seeking FHA financing to renovate 90 affordable units.

Nature of Requirement: The 24 CFR part 200.73(c) which, states that a site must contain no less than 5 rental dwelling units. Section 3.1.O.l.CC of the MAP Guide permits a project with two or more noncontiguous parcels of land when the parcels comprise one marketable, manageable real estate entity and each parcel (or combination of contiguous parcels) has at least 5 units.

Granted By: Brian D. Montgomery, Assistant Secretary for Housing—Federal Housing Commissioner.

Date Granted: June 17, 2019.

Reason Waived: The waiver was granted to allow preservation of 90 units that are 100% affordable with a Rental Assistance Demonstration (RAD) conversion. In addition, a provision of a new 20-year Housing Assistance Payment (HAP) contract. This project constitutes one manageable and marketable property.

Contact: Patricia M. Burke, Acting Director Office of Multifamily Production, Office of Housing, Department of Housing and Urban Development, 451 Seventh Street SW, Washington, DC 20410, telephone (202) 402-5693.

• Regulation: 24 CFR 232.7.

Project/Activity: Summit Carolina Manor, FHA Project Number 075-22141, and Applewood Our Hose, FHA Project Number 101-22143 are Assisted Living/Memory Care facilities, which do not meet the requirements of 24 CFR 232.7 “Bathroom” of FHA's regulations. Summit Carolina Manor is located in Appleton, Wisconsin. Applewood Our House is located on five scattered sites in the suburbs of Denver, Colorado.

Nature of Requirement: The regulation at 24 CFR 232.7 mandates in a board and care home or assisted living facility that not less than one full bathroom must be provided for every four residents. Also, the bathroom cannot be accessed from a public corridor or area.

Granted By: Brian D. Montgomery, Assistant Secretary for Housing—Federal Housing Commissioner.

Date Granted: May 17, 2019.

Reason Waived: The two projects both currently exceed the 4:1 resident to shower ratio. Each project only serves memory care residents who require assistance with bathing. These residents are housed in units in a secure, lock-down area, with a half-bathroom each and access to the shower rooms through a hallway. The projects meet the States' licensing requirements for bathing and toileting facilities. The projects will benefit from a refinance at reduced interest rates. As part of the refinancing, an additional bathroom is being added to one of the Applewood sites, which would bring the building's ratio of residents to full baths to 4:1.

Contact: John M. Hartung, Policy Division Director, Office of Residential Care Facilities, Office of Healthcare Programs, Office of Housing, Department of Housing and Urban Development, 451 Seventh Street SW, Room 6264, Washington, DC 20401, telephone (202) 402-5377.

• Regulation: 24 CFR 266.200(b)(2).

Project/Activity: 542(c) Risk-Sharing Program regulations waiver was granted on February 7, 2019 for forty (40) projects through the end of fiscal year 2019 (i.e. HUD issuance of a firm approval letter by September 30, 2019) for the revised definition of Substantial Rehabilitation published in the MAP Guide on January 16, 2016, to the Massachusetts Housing Finance Agency (MassHousing), Boston, MA, no project names listed.

Nature of Requirement: The Waiver of 24 CFR 266.200(b)(2), Substantial Rehabilitation. The Department will permit the revised definition of substantial rehabilitation (S/R) as described in the revised MAP Guide published on January 29, 2016, such that S/R is: Any scope of work that either (a) Exceeds in aggregate cost a sum equal to the ‘base per dwelling unit limit’ times the applicable High Cost Factor, or (b) Replacement of two or more building systems. ‘Replacement’ is when the cost of replacement work exceeds 50 percent of the cost of replacing the entire system.

The High Cost Factors for 2017 were recently published through a Housing Notice (HN) on August 31, 2017 and the revised statutory limits were recently published in the Federal Register on November 7, 2017. The 2017 base dwelling unit amount to determine substantial rehabilitation for FHA insured loan programs has been increased from $15,000 (changed from $6,500 per unit in the 2016 MAP guide) to $15,315. This amount will change annually based upon the change in the annual Consumer Price Index (CPI), along with the statutory limits or other inflation cost index published by HUD.

Granted By: Brian D. Montgomery, Assistant Secretary for Housing—Federal Housing Commissioner.

Date Granted: June 18, 2019.

Reason Waived: MassHousing has been working with developers to finalize financing proposals; however, they will not be able to process all forty (40) projects before the end of fiscal year 2019 (i.e. HUD issuance of a firm approval letter by September 30, 2019). By granting the extension of the waiver to the end of fiscal year 2021 (September 30, 2021), it will allow enough time to complete the process.

Contact: Patricia M. Burke, Acting Director Office of Multifamily Production, Office of Housing, Department of Housing and Urban Development, 451 Seventh Street SW, Washington, DC 20410, telephone (202) 402-5693.

• Regulation: 24 CFR 266.200(c)(2).

Project/Activity: Section 542(c) Risk-Sharing Program regulations waiver was granted on February 7, 2019 for forty (40) projects through the end of fiscal year 2019 (i.e. HUD issuance of a firm approval letter by September 30, 2019) for the revised definition of Substantial Rehabilitation published in the MAP Guide on January 16, 2016, to the Massachusetts Housing Finance Agency (MassHousing), Boston, MA, no project names listed.

Nature of Requirement: The Waiver of 24 CFR 266.200(c)(2), Existing Projects “Equity Take-outs”. The Department will permit the insured mortgage to exceed the sum of the total cost of acquisition, cost of financing, cost of repairs, and reasonable transaction costs, or “equity take-outs” in refinances of MassHousing-financed projects and those outside MassHousing's portfolio if the result is preservation with the following conditions:

1. Occupancy is no less than 93 percent for previous 12 months;

2. No defaults in the last 12 months of the HFA loan to be refinanced;

3. A 20-year affordable housing deed restriction placed on title that conforms to the Section 542(c) statutory definition;

4. A Property Capital Needs Assessment (PCNA) must be performed and funds escrowed for all necessary repairs, and reserves funded for future capital needs; and

5. For projects subsidized by Section 8 Housing Assistance Payment (HAP) contracts:

a. Owner agrees to renew HAP contract(s) for 20-year term, (subject to appropriations and statutory authorizations, etc.), and

b. In accordance with regulations in 24 CFR 883.306(e), and Housing Notice 2012-14—Use of “New Regulation” Section 8 Housing Assistance Payments (HAP) Contracts Residual Receipts of Offset Project-Based Section 8 Housing Assistance Payments, if at any time MHP determines that a project's excess funds (surplus cash) after project operations, reserve requirements and permitted distributions are met, MHP must place the excess funds into a separate interest-bearing account. Upon renewal of a HAP Contract the excess funds can be used to reduce future HAP payments or other project operations/purposes. When the HAP Contracts expires, is terminated, or any extensions are terminated, any unused funds remaining in the Residual Receipt Account at the time of the contract's termination must be returned to HUD.

Granted By: Brian D. Montgomery, Assistant Secretary for Housing—Federal Housing Commissioner.

Date Granted: June 18, 2019.

Reason Waived: MassHousing has been working with developers to finalize financing proposals; however, they will not be able to process all forty (40) projects before the end of fiscal year 2019 (i.e. HUD issuance of a firm approval letter by September 30, 2019). By granting the extension of the waiver to the end of fiscal year 2021 (September 30, 2021), it will allow enough time to complete the process.

Contact: Patricia M. Burke, Acting Director Office of Multifamily Production, Office of Housing, Department of Housing and Urban Development, 451 Seventh Street SW, Washington, DC 20410, telephone (202) 402-5693.

V. Regulatory Waivers Granted by the Office of Public and Indian Housing

For further information about the following regulatory waivers, please see the name of the contact person that immediately follows the description of the waiver granted.

• Regulation: 24 CFR 5.801.

Project/Activity: Coshocton Metropolitan Housing Authority (OH037).

Nature of Requirement: The regulation establishes certain reporting compliance dates. The audited financial statements are required to be submitted to the Real Estate Assessment Center (REAC) no later than nine months after the housing authority's (HA) fiscal year end (FYE), in accordance with the Single Audit Act and OMB Circular A-133.

Granted By: R. Hunter Kurtz, Principal Deputy Assistant Secretary for Public and Indian Housing.

Date Granted: June 14, 2019.

Reason Waived: The Coshocton Metropolitan Housing Authority (HA) requested to waive the reporting requirements for submitting its audited financial information to extend the due date of its fiscal year end date of (FYE) June 30, 2018, because the HUD Office of Inspector General (HUDOIG) is in possession of most of the HA's records, due to an ongoing investigation into the HA and its employees. As a result, the Auditor of the State of Ohio had instructed the HA's independent auditor to hold the audit report until the HUDOIG investigation is completed. Accordingly, the HA was granted a six-month extension, until September 30, 2019, to complete and submit its FYE June 30, 2018, audited financial data to the Department. This Financial Assessment Subsystem (FASS) audited waiver (extension) does not apply to Single Audit submissions required by the Federal Audit Clearinghouse.

Contact: Dee Ann R. Walker, Program Manager, NASS, Real Estate Assessment Center, Office of Public and Indian Housing, Department of Housing and Urban Development, 550 12th Street SW, Suite 100, Washington, DC 20410, telephone (202) 475-7908.

• Regulation: 24 CFR 983.301(f)(2)(ii).

Project/Activity: New York City Housing Authority in New York, New York, requested a waiver of 24 CFR 983.301(f)(2)(ii) to establish a site-specific utility allowance for all project-based voucher units at Hope Gardens.

Nature of Requirement: The regulation 24 CFR 983.301(f)(2)(ii) states that the PHA may not establish or apply different utility allowance amounts for the PBV program. The same PHA utility allowance schedule applies to both the tenant-based and PBV programs.

Granted By: R. Hunter Kurtz, Principal Deputy Assistant Secretary for Public and Indian Housing.

Date Granted: April 16, 2019.

Reason Waived: New York City Housing Authority has demonstrated that the utility allowance provided under the HCV Program would discourage conservation and ultimately lead to inefficient use of HAP funds at Hope Gardens.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 983.301(f)(2)(ii).

Project/Activity: Schenectady Housing Authority in Schenectady, New York requested a waiver of 24 CFR 983.301(f)(2)(ii) to establish a site-specific utility allowance for all project- based voucher units at Yates Village Phase I.

Nature of Requirement: The regulation 24 CFR 983.301(f)(2)(ii) states that the PHA may not establish or apply different utility allowance amounts for the PBV program. The same PHA utility allowance schedule applies to both the tenant-based and PBV programs.

Granted By: R. Hunter Kurtz, Principal Deputy Assistant Secretary for Public and Indian Housing.

Date Granted: April 16, 2019.

Reason Waived: Schenectady Housing Authority has demonstrated that the utility allowance provided under the HCV Program would discourage conservation and ultimately lead to inefficient use of HAP funds at Yates Village Phase I.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 982.503(b)(1)(i).

Project/Activity: The Housing Authority of Pittsburgh, in Pittsburgh Pennsylvania requested a waiver of 24 CFR 982.503(b)(l)(i).

Nature of Requirement: The regulation states that the PHA may establish the payment standard amount for a unit size at any level between 90 percent and 110 percent of the published FMR for that unit size. HUD approval is not required to establish a payment standard amount in that range (“basic range”). The PHA must revise the payment standard amount no later than 3 months following the effective date of the published FMR if a change is necessary to stay within the basic range.

Granted By: R. Hunter Kurtz, Principal Deputy Assistant Secretary for Public and Indian Housing.

Date Granted: April 16, 2019.

Reason Waived: This waiver was approved, taking into account the administrative burden HACP would face if it were to implement SAMFRs, only to then receive HUD approval of an alternative payment standards policy.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: 24 CFR 983.156(b).

Project/Activity: Boise City Housing Authority, in Boise, Idaho, requested a waiver of 24 CFR 983.156(b) requesting approval to enter into a PBV HAP contract.

Nature of Requirement: The regulation 24 CFR 983.156(b) states that if the PHA determines that the housing has been completed in accordance with the Agreement and that the owner has submitted all required evidence of completion, the PHA must submit the HAP contract for execution by the owner and must then execute the HAP contract.

Granted By: R. Hunter Kurtz, Principal Deputy Assistant Secretary for Public and Indian Housing.

Date Granted: June 11, 2019.

Reason Waived: This waiver was approved due to a Government Shutdown which caused a delay in the PBV Contract execution.

Contact: Becky Primeaux, Housing Voucher Management and Operations Division, Office of Public Housing and Voucher Programs, Office of Public and Indian Housing, Department of Housing and Urban Development, 451 Seventh Street SW, Room 4216, Washington, DC 20410, telephone (202) 708-0477.

• Regulation: [PIH please insert info].

Project/Activity: The San Antonio Housing Authority in San Antonio, Texas, requested a waiver of FR-5596-N Section II.j. to approve MTW flexibilities for its HUD-VASH participants in terms of regulatory relief and flexibility.

Nature of Requirement: The regulation FR 5596-N Section II.j. states HUD-VASH vouchers must be administered in accordance with this notice and are not eligible for fungibility under a PHA's MTW agreements. HUD-VASH vouchers must be reported on separately from vouchers under the agency's MTW Agreement.

Granted By: R. Hunter Kurtz, Assistant Secretary for Public and Indian Housing.

Date Granted: June 13, 2019.

Reason Waived: This waiver was approved because the Department determined that as described the MTW flexibilities do not have a negative impact on HUD-VASH participants and better serve HUD-VASH families.

Contact: Becky Primeaux, Housing Voucher Management and Operations Division, Office of Public Housing and Voucher Programs, Office of Public and Indian Housing, Department of Housing and Urban Development, 451 Seventh Street SW, Room 4216, Washington, DC 20410, telephone (202) 708-0477.

[FR Doc. 2019-20250 Filed 9-18-19; 8:45 am]

BILLING CODE 4210-67-P